DEPARTMENT OF LABOR

Employment and Training Administration

[TA-W-63,093]

Saint-Gobain Vetrotex America, Including On-Site Leased Workers From Industrial Outsourcing, Wichita Falls, TX; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Negative Determination Regarding Eligibility to Apply for Alternative Trade Adjustment Assistance on April 25, 2008, applicable to workers of Saint-Gobain Vetrotex America, Wichita Falls, Texas. The notice was published in the Federal Register on May 13, 2008 (73 FR 27560).

At the request of the State agency, the Department reviewed the certification for workers of the subject firm. The workers are engaged in the production of continuous strand fiberglass products.

New information shows that leased workers of Industrial Outsourcing were employed on-site at the Wichita Falls, Texas location of Saint-Gobain Vetrotex America. The Department has determined that these workers were sufficiently under the control of the subject firm to be considered leased workers.

Based on these findings, the Department is amending this certification to include leased workers of Industrial Outsourcing working on-site at the Wichita Falls, Texas location of the subject firm.

The intent of the Department's certification is to include all workers employed at Saint-Gobain Vetrotex America, Wichita Falls, Texas who were adversely affected by increased imports.

The amended notice applicable to TA-W-63,093 is hereby issued as follows:

“All workers of Saint-Gobain Vetrotex America, including on-site leased workers from Industrial Outsourcing, Wichita Falls, Texas, who became totally or partially separated from employment on or after March 19, 2007, through April 25, 2010, are eligible to apply for adjustment assistance under Section 223 of the Trade Act of 1974.” and

I further determine that all workers of Saint-Gobain Vetrotex America, including on-site leased workers from Industrial Outsourcing, Wichita Falls, Texas, are denied eligibility to apply for alternative trade adjustment assistance under Section 246 of the Trade Act of 1974.

Signed at Washington, DC this 21st day of May 2008.
Elliott S. Kushner,
Certifying Officer, Division of Trade Adjustment Assistance.

[FR Doc. E8-11904 Filed 5-28-08; 8:45 am]

BILLING CODE 4510-FN-P